NUCLEAR REGULATORY COMMISSION

10 CFR Part 72

RIN 3150-AI09

[NRC-2008-0361]

License and Certificate of Compliance Terms

AGENCY: Nuclear Regulatory Commission.

ACTION: Availability of preliminary draft rule language.

SUMMARY: The U.S. Nuclear Regulatory Commission (NRC) is making available preliminary draft rule language to amend its regulations concerning licensing requirements for the independent storage of spent nuclear fuel. This proposed rulemaking includes changes that clarify the license term limits for dry storage cask Certificates of Compliance (CoCs) and independent spent fuel storage installation (ISFSI) licenses, provide consistency between the general license requirements and the site-specific ISFSI license requirements, and allow part 72 general licensees to implement changes authorized by an amended CoC to a cask loaded under the initial CoC or an earlier amended CoC (a “previously loaded cask”). More specifically, the proposed amendments would allow for longer initial and renewal terms for part 72 CoCs and licenses, clarify the general license storage term, clarify the difference between CoC “approval” and “renewal,” allow a licensee to apply the changes associated with a CoC amendment to a previously loaded cask without express NRC approval, provided the cask then fully conforms to the terms, conditions, and specifications of the amended CoC, and make certain administrative and clarification changes. The availability of the preliminary draft rule language is intended to inform stakeholders of the current status of the NRC's activities and solicit public comments on the information at this time.

DATES: Submit comments by August 31, 2008. Comments received after this date will be considered if it is practical to do so, but the NRC is able to assure consideration only for comments received on or before this date.

ADDRESSES: You may submit comments by any one of the following methods. Please include the following number, RIN 3150-AI09, in the subject line of your comments. Comments submitted in writing or in electronic form will be made available for public inspection. Because your comments will not be edited to remove any identifying or contact information, the NRC cautions you against including any information in your submission that you do not want to be publicly disclosed. The NRC may post updates periodically under Docket ID [NRC-2008-0361] on the Federal eRulemaking Portal at http://www.regulations.gov that may be of interest to stakeholders.

Federal e-Rulemaking Portal: Go to http://www.regulations.gov and search for documents filed under Docket ID [NRC-2008-0361]. Address questions about NRC dockets to Carol Gallagher 301-415-5905; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1966.

Hand deliver comments to: 11555 Rockville Pike, Rockville, Maryland 20852, between 7:30 a.m. and 4:15 p.m. Federal workdays. (Telephone 301-415-1677).

Fax comments to: Secretary, U.S. Nuclear Regulatory Commission at 301-415-1101. You can access publicly available documents related to this document using the following methods:

NRC's Public Document Room (PDR): The public may examine and have copied for a fee publicly available documents at the NRC's PDR, Public File Area O1F21, One White Flint North, 11555 Rockville Pike, Rockville, Maryland 20852-2738.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-899-397-4209, 301-415-4737, or by e-mail to pdr.resource@nrc.gov.

FOR FURTHER INFORMATION CONTACT: Keith K. McDaniel, Office of Federal and State Materials and Environmental Management Programs, U.S. Nuclear Regulatory Commission, Washington, DC 20555-0001, telephone (301) 415-5252, e-mail, keith.mcdaniel@nrc.gov.

SUPPLEMENTARY INFORMATION: The preliminary draft rule language can be viewed and downloaded electronically via the Federal eRulemaking Portal at http://www.regulations.gov by searching for Docket #NRC-2008-0361 as well as in ADAMS (ML081970262).

The goal of this rulemaking is to both clarify the license term limits for part 72 CoCs and licenses and to allow part 72 general licensees to implement changes authorized by an amended CoC to a previously loaded cask. The proposed changes would also provide consistency between the general license requirements and the site-specific ISFSI license requirements within 10 CFR part 72.

The NRC is making a preliminary version of the draft proposed rule language available to inform stakeholders of the current status of this proposed rulemaking. The NRC is inviting stakeholders to comment on the draft proposed rule language. The NRC specifically asks for stakeholder review and comment on the draft provisions in 72.212(b)(3)-(5) with regard to implementation of the requirements to allow a licensee to apply the changes authorized by an amended Certificate of Compliance to a previously loaded cask. This preliminary draft rule language may be subject to significant revisions during the rulemaking process. The NRC will review and consider any comments received for information only; the NRC will not respond to any comments received at this pre-rulemaking stage. As appropriate, the Statements of Consideration for the proposed rule will briefly discuss any substantive changes made to the proposed rule language as a result of comments received. Once published as a proposed rule in the Federal Register, stakeholders will have an opportunity to comment on the proposed rule language and, the NRC will respond to any such comments in the Statements of Consideration for the final rule.

Dated at Rockville, Maryland, this 28th day of July 2008.
For the Nuclear Regulatory Commission.
Dennis K. Rathbun,
Director, Division of Intergovernmental Liaison and Rulemaking, Office of Federal and State Materials and Environmental Management Programs.

[FR Doc. E8-17796 Filed 8-1-08; 8:45 am]

BILLING CODE 7590-01-P